DEPARTMENT OF THE INTERIOR

National Park Service

[NPS-NERO-CEBE-13802; PPNECEBE00, PPMPSPD1Z.Y00000]

Request for Nominations for the Cedar Creek and Belle Grove National Historical Park Advisory Commission

AGENCY: National Park Service, Interior.

ACTION: Notice of request for nominations for the Cedar Creek and Belle Grove National Historical Park Advisory Commission.

SUMMARY: The National Park Service, U.S. Department of the Interior, proposes to appoint new members to the Cedar Creek and Belle Grove National Historical Park Advisory Commission. The Site Manager, Cedar Creek and Belle Grove National Historical Park, is requesting nominations for qualified persons to serve on the Commission.

DATES: Nominations must be postmarked no later than November 15, 2013.

ADDRESSES: Nominations or requests for further information should be sent to Amy Bracewell, Site Manager, Cedar Creek and Belle Grove National Historical Park, 8693 Valley Pike, P.O. Box 700, Middletown, Virginia 22645, telephone (540) 868-9176, email: amy_bracewell@nps.gov.

SUPPLEMENTARY INFORMATION: Public Law 107-373 established Cedar Creek and Belle Grove National Historical Park. Section 9(a) of that law established the Advisory Commission. The Advisory Commission was designated by Congress to provide advice to the Secretary of the Interior on the preparation and implementation of the park's general management plan and to advise on land protection.

Nominations are needed to represent the following categories: one member to represent the local government of Warren County; one member to represent the local government of Middletown; one member to represent the local government of Frederick County; one member to represent the Cedar Creek Battlefield Foundation; one member to represent Belle Grove, Incorporated; one member to represent the National Trust for Historic Preservation; one member to represent the Shenandoah Valley Battlefields Foundation; two members to represent the private landowners within the park; and one member to represent a citizen interest group.

Submitting Nominations:

Nominations should be typed and must include each of the following:

A. Brief summary of no more than two (2) pages explaining the nominee's suitability to serve on the Commission.

B. Resume or curriculum vitae.

C. One (1) letter of endorsement from the unit of government or organization being represented, or, in the case of a private landowner, one (1) letter of reference.

The Commission consists of 15 members, each appointed by the Secretary of the Interior, as follows: (a) 1 representative from the Commonwealth of Virginia; (b) 1 representative each from the local governments of Strasburg, Middletown, Frederick County, Shenandoah County, and Warren County; (c) 2 representatives of private landowners within the Park; (d) 1 representative from a citizen interest group; (e) 1 representative from the Cedar Creek Battlefield Foundation; (f) 1 representative from Belle Grove, Incorporated; (g) 1 representative from the National Trust for Historic Preservation; (h) 1 representative from the Shenandoah Valley Battlefields Foundation; (i) 1 ex-officio representative from the National Park Service; (j) one 1 ex-officio representative from the United States Forest Service. Each member shall be appointed for a term of three years and may be reappointed for not more than two successive terms. A member may serve after the expiration of that member's term until a successor has taken office. The Chairperson of the Commission shall be elected by the members to serve a term of one year renewable for one additional year.

Members of the Commission shall serve without pay, allowances, or benefits by reason of their service on the Commission. However, while away from their homes or regular places of business in the performance of services for the Commission as approved by the Designated Federal Officer, members will be allowed travel expenses, including per diem in lieu of subsistence, in the same manner as persons employed intermittently in Government service are allowed such expenses under section 5703 of Title 5 of the United States Code.

The Obama Administration prohibits individuals who are currently federally registered lobbyists to serve on all Federal Advisory Committee Act (FACA) and non-FACA boards, committees, or councils.

All required documents must be compiled and submitted in one complete nomination package. Incomplete submissions (missing one or more of the items described above) will not be considered.

Nominations should be postmarked no later than November 15, 2013, to Amy Bracewell, Site Manager, Cedar Creek and Belle Grove National Historical Park, 8693 Valley Pike, P.O. Box 700, Middletown, Virginia 22645.

Dated: September 12, 2013.
Alma Ripps,
Chief, Office of Policy.

[FR Doc. 2013-22689 Filed 9-17-13; 8:45 am]

BILLING CODE 4310-WV-P